DEPARTMENT OF HOMELAND SECURITY

[DHS-2005-0054]

Office of State and Local Government Coordination and Preparedness; SAFER Grant Program

AGENCY: Office of State and Local Government Coordination and Preparedness, DHS.

ACTION: Notice and request for comment.

SUMMARY: The Department of Homeland Security (DHS), as part of its continuing effort to reduce paperwork and respondents' burden, invites the general public to take this opportunity to comment on this proposed information collection as required by the Paperwork Reduction Act 1995, Public Law 104-13 (44 U.S.C. 3506(c)(2)(A). Currently, the Office of State and Local Government Coordination and Preparedness (OOSLGCP) is soliciting comments concerning a proposed new collection, Staffing for Adequate Fire and Emergency Response (SAFER) Grant Application.

DATES: Comments are encouraged and will be accepted until October 17, 2005. This process is conducted in accordance with 5 CFR 1320.10.

ADDRESSES: You may submit comments, identified by docket number DHS-2005-0054, by one of the following methods:

• EPA Federal Partner EDOCKET Web Site: http://www.epa.gov/feddocket. Follow instructions for submitting comments on the Web site.

• Federal eRulemaking Portal: http://www.regulations.gov. Follow the instructions for submitting comments.

• E-mail: tom.harrington@dhs.gov. Include docket number DHS-2005-0054 in the subject line of the message.

• Mail: Office of State and Local Government Coordination and Preparedness, Grants Program Office, 810 7th Street, NW., Washington, DC 20531.

Instructions: All submissions received must include the agency name and docket number DHS-2005-0054 for this Information Collection Request. All comments received will be posted without changed to http://www.epa.gov/feddocket, including any personal information provided. For detailed instructions on submitting comments and additional information on the rulemaking process, see the “Public Participation” heading of the SUPPLEMENTARY INFORMATION section of this document.

Docket: For access to the docket to read background documents or comments received, go to http://www.epa.gov/feddocket. You may also access the Federal eRulemaking Portal at http://www.regulations.gov.

FOR FURTHER INFORMATION CONTACT: Tom Harrington 202-786-9791 (this is not a toll free number).

SUPPLEMENTARY INFORMATION:

Public Participation

Interested persons are invited to participate in this Information Collection Request by submitting written data, views, or arguments on all aspects of the proposed Information Collection Request. OSLGCP also invites comments that relate to the economic, environmental, or federalism affects that might result from this Information Collection Request. Comments that will provide the most assistance to the OSLGCP in developing these procedures will reference a specific portion of the Information Collection Request, explain the reason for any recommended change, and include data, information, or authority that support such recommended change. See ADDRESS above for information on how to submit comments.

Analysis

Agency: Department of Homeland Security, Office of State and Local Government Coordination and Preparedness.

Title: Staffing for Adequate Fire and Emergency Response (SAFER) Grant Application.

OMB Control Number: NEW.

Frequency: Quarterly.

Affected Public: State, local or tribal government.

Estimated Number of Respondents: 7,000.

Estimated Time Per Response: 17 hours per response.

Total Burden Hours: 149,000.

Total Cost Burden: None.

Description: The SAFER Act Program provides for $65 million in grant funding to be distributed directly to individual fire departments on a competitive basis. The law allows DHS to fund fire department staff and benefits on a decreasing cumulative value over the span of five years. The information collected through the program's application is the minimum necessary to evaluate grant applications authorized under the SAFER Grant Program or is necessary for DHS to comply with mandates delineated in the law.

Scott Charbo,
Chief Information Officer.

[FR Doc. 05-16209 Filed 8-15-05; 8:45 am]

BILLING CODE 4410-10-P